ENVIRONMENTAL PROTECTION AGENCY

40 CFR Part 52

[EPA-R08-OAR-2022-0612; FRL-10300-02-R8]

Approval and Promulgation of Implementation Plans; Colorado; Revisions to Code of Colorado Regulations; Regulation Number 3

Correction

In rule document 2023-06120, appearing on pages 18054-18056 in the issue of Monday, March 27, 2023, make the following correction:

§ 52.320 [Corrected]

On page 18056, in the table, in the fourth column, in the ninth row, “3/2/2023” should read “3/27/2023”.

[FR Doc. C1-2023-06120 Filed 3-28-23; 8:45 am]

BILLING CODE 0099-10-P